DEPARTMENT OF THE INTERIOR

Bureau of Land Management

[LLCOF02000-L14300000.EU0000; COC-73560]

Notice of Realty Action: Proposed Non-Competitive (Direct) Sale of Public Land, Gilpin County, CO

AGENCY: Bureau of Land Management, Interior.

ACTION: Notice of realty action.

SUMMARY: The public lands described in this Notice consist of four small parcels ranging in size from 0.01 acres to 1.75 acres for a total of 1.87 acres in Gilpin County, Colorado. The parcels are being proposed for direct sale to Prospectors Run LLC at no less than the appraised fair market value (FMV) to resolve inadvertent, unauthorized use and occupancy of the parcels. No significant resource values will be affected by disposal of these parcels from Federal ownership. The sale is consistent with Bureau of Land Management (BLM) policies and the BLM Colorado Northeast Resource Management Plan, dated September 16, 1986.

DATES: Interested persons may submit written comments concerning the proposed sale to the BLM at the address stated below. Comments must be received by the BLM not later than September 10, 2009.

ADDRESSES: Written comments regarding the proposed sale should be addressed to the Bureau of Land Management, Field Manager, Royal Gorge Field Office, 3028 East Main Street, Canon City, Colorado 81212.

FOR FURTHER INFORMATION CONTACT: Debbie Bellew, Realty Specialist, at (719) 269-8514 or by e-mail dbellew@co.blm.gov.

SUPPLEMENTARY INFORMATION: The following described parcels of public land are proposed for sale:

Sixth Principal Meridian

T. 3 S., R. 73 W.,

Sec. 11, lots 26, 28, 29, 30, and 32.

The areas described aggregate 1.87 acres in Gilpin County.

The parcels lie within Eureka Heights Village approximately 1 mile northwest of Central City, Colorado.

The authority for the sale is section 203 of the Federal Land Policy and Management Act (FLPMA) of October 21, 1976 (43 U.S.C. 1713) and regulations found at 43 CFR part 2710. The parcels are not required for Federal purposes and were identified for disposal in the BLM Northeast Colorado Resource Management Plan approved on September 18, 1986, and therefore meet the qualifications for disposal from Federal ownership. The disposal (sale) of the parcels would serve the public interest for private economic development, which outweighs other public objectives and values.

On July 27, 2009 the parcels will be segregated from all forms of appropriation under the public land laws, including the mining laws, except as to non-competitive (direct) sale as herein proposed. The segregative effect will terminate upon issuance of a patent, publication in the Federal Register of a termination of the segregation, or on July 27, 2011, whichever occurs first, unless the segregation period is extended by the BLM State Director, Colorado, in accordance with 43 CFR 2711.1-2(d) prior to the termination date. Upon publication of this notice and until completion of the sale, the BLM will not accept land use applications.

The parcels will be disposed of at no less than the appraised FMV. The FMV will be determined by an appraisal using the principles contained in the “Uniform Appraisal Standards for Federal Land Acquisitions.” The parcels described in this notice were identified for disposal in an approved land use plan in effect on July 25, 2000; therefore, proceeds from this sale will be deposited into the Federal Land Disposal Account authorized under section 206 of the Federal Land Transaction Facilitation Act, Public Law 106-248.

Regulations contained in 43 CFR 2711.3-3 make allowances for direct sales when a competitive sale is inappropriate and when the public interest would best be served by a direct sale, including a need to resolve inadvertent unauthorized use or occupancy of the lands. The fragmented land pattern in Gilpin County has resulted in numerous historical trespass situations on public lands. As to the parcels described in this Notice, the BLM has completed a cadastral survey of the public land boundaries to verify the unauthorized uses. In accordance with 43 CFR 2710.0-6 (c) (iii) and 43 CFR 2711.3-3(a), the BLM authorized officer finds that the public interest would be best served by resolving the inadvertent unauthorized use and occupancy of public lands managed by the BLM by direct sale to a landowner whose improvements occupy portions of the parcels and to protect existing equities in the land.

The inadvertent unauthorized use and occupancy involves landscaping and the encroachment of portions of retaining walls associated with the townhome development known as “Eureka Heights Village.” The initial use and occupancy began when Prospector's Run LLC built the improvements on public land during development of their private property. Access to the subject BLM parcels is off of Eureka Street. The sale would consolidate the public land parcels within the Eureka Heights Village development and resolve inadvertent unauthorized use and occupancy of public lands. Federal law requires purchasers to be citizens of the United States, 18 years of age or older; or, in the case of corporations, to be subject to the laws of any State or of the United States; a State, State instrumentality or political subdivision authorized to hold property or an entity legally capable of conveying lands or interests therein under the laws of the State of Colorado. The purchaser will be allowed 30 days from receipt of a written offer from the BLM to submit a deposit of at least 30 percent of the appraised FMV of the parcels, and 180 days thereafter to submit the balance. Payments must be in the form of a certified check, postal money order, bank draft, or cashier's check made payable in U.S. dollars to the order of the U.S. Department of the Interior—BLM. Personal checks will not be accepted. Failure to meet conditions established for this sale will void the sale and any monies received will be forfeited. If the balance of the purchase price is not received within the 180 days, the deposit shall be forfeited to the United States and the parcels withdrawn from sale.

Any patent issued will contain the following numbered reservations, covenants, terms and conditions:

(1) A reservation to the United States for ditches and canals constructed by the authority of the United States, Act of August 30, 1890 (43 U.S.C. 945).

(2) The parcels will be subject to all valid existing rights of record at the time of conveyance.

(3) If appropriate, a reservation of minerals and mineral interests to the United States.

(4) A notice and indemnification statement under the Comprehensive Environmental Response, Compensation and Liability Act (42 U.S.C. 9620(h)), as amended by the Superfund Amendments and Reauthorization Act of 1988, (100 Stat. 1670), holding the United States harmless from any release of hazardous materials that may have occurred as a result of any authorized or unauthorized use of the property by other parties.

(5) Additional terms and conditions that the authorized officer deems appropriate to ensure proper land use and protection of the public interest.

Conveyance of any mineral interest pursuant to section 209 of the FLPMA will be analyzed during processing of the proposed sale.

No warranty of any kind, expressed or implied, is given by the United States as to the title, physical condition, or potential uses of the parcels of land proposed for sale, and the conveyance will not be on a contingency basis. In order to determine the value, through appraisal, certain extraordinary assumptions may be made of the attributes and limitations of the lands and potential effects of local regulations and policies on potential future land uses. Through publication of this Notice of Realty Action, the BLM gives notice that these assumptions may not be endorsed or approved by units of local government. It is the buyer's responsibility to be aware of: (1) All applicable Federal, State, or local government laws, regulations, or policies that may affect the subject parcels or its future uses, and (2) existing or prospective uses of nearby properties. When conveyed out of Federal ownership, the lands will be subject to any applicable laws, regulations, and policies of the applicable local government for proposed future uses. It will be the responsibility of the purchaser to be aware of those laws, regulations, and policies, and to seek any required local approvals for future uses. Buyers should also make themselves aware of any Federal or State law or regulation that may impact the future use of the property. If the parcels lack access from a public road or highway it will be conveyed as such, and future access acquisition will be the responsibility of the buyer.

Public Comments

For a period until September 10, 2009, interested parties and the general public may submit in writing any comments concerning the parcels being considered for direct sale, including notification of any encumbrances or other claims relating to the parcels, to the BLM Royal Gorge Field Manager at the above address. In order to ensure consideration in the environmental analysis of the proposed sale, comments must be in writing and postmarked or delivered within 45 days of the initial date of publication of this notice. Comments, including names and street addresses of respondents, will be available for public review at the BLM Royal Gorge Field Office during regular business hours. Individual respondents may request confidentiality. Before including your address, phone number, e-mail address, or other personal identifying information in your comment, you should be aware that your entire comment—including your personal identifying information—may be made publicly available at any time. While you can ask us in your comment to withhold your personal identifying information from public review, we cannot guarantee that we will be able to do so. If you wish to have your name or address withheld from public disclosure under the Freedom of Information Act, you must state it prominently at the beginning of your comments. Any determination by the BLM to release or withhold the names and/or addresses of those who comment will be made on a case-by-case basis. Such requests will be honored to the extent allowed by law. BLM will make available for public review, in their entirety, all comments submitted by businesses or organizations, including comments by individuals in their capacity as an official or representative of an organization or business.

Any adverse comments will be reviewed by the BLM State Director, Colorado, who may sustain, vacate, or modify this realty action in whole or in part. In the absence of any adverse comments, this realty action will become the final determination of the Department of the Interior. Information concerning the proposed land sale, including reservations, appraisal, planning and environmental documents, and mineral report, is available for review at the Royal Gorge field Office at the address listed above. Normal business hours are 7:45 a.m. to 4:30 p.m., Monday through Friday, except Federal holidays. The parcels will not be sold until at least September 25, 2009.

Roy L. Masinton,
Field Manager, Royal Gorge Field Office.

[FR Doc. E9-17785 Filed 7-24-09; 8:45 am]

BILLING CODE 4310-JB-P